ENVIRONMENTAL PROTECTION AGENCY

40 CFR Part 52

[EPA-R09-OAR-2014-0178; FRL-9921-99-Region 9]

Approval and Promulgation of Implementation Plans; State of California; Sacramento Metro Area; Attainment Plan for 1997 8-Hour Ozone Standard

AGENCY: U.S. Environmental Protection Agency.

ACTION: Final rule.

SUMMARY: The Environmental Protection Agency (EPA) is taking final action to approve state implementation plan (SIP) revisions submitted by the State of California that provide for attainment of the 1997 8-hour ozone national ambient air quality standard (“standard” or NAAQS) in the Sacramento Metro nonattainment area. The EPA is approving the emissions inventories, air quality modeling, reasonably available control measures, provisions for transportation control strategies and measures, rate of progress and reasonable further progress (RFP) demonstrations, attainment demonstration, transportation conformity motor vehicle emissions budgets, and contingency measures for failure to make RFP or attain. The EPA is also approving commitments for measures by the Sacramento Metro nonattainment area air districts.

DATES: This final rule is effective on March 2, 2015.

ADDRESSES: The EPA has established a docket for this action: Docket ID No. EPA-R09-OAR-2014-0178. Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: John Ungvarsky, Air Planning Office (AIR-2), U.S. Environmental Protection Agency, Region IX, (415) 972-3963, ungvarsky.john@epa.gov.

SUPPLEMENTARY INFORMATION: Throughout this document, “we,” “us” and “our” refer to the EPA.

Table of Contents

I. Summary of Proposed Action

A. Regulatory Background

B. CARB's Submittals

C. The EPA's Proposed Approval

II. What comments did the EPA receive on the proposed rule?

III. What action is the EPA taking?

IV. Statutory and Executive Order Reviews

I. Summary of Proposed Action

On October 15, 2014 (79 FR 61799), under section 110(k) of the Clean Air Act (Act or CAA), the EPA proposed approval of a series of submittals from the California Air Resources Board (CARB) as revisions to the California state implementation plan (SIP) for the Sacramento Metro ozone nonattainment area (SMA).¹ The principal submittals are:

¹ The SMA consists of Sacramento and Yolo counties and portions of El Dorado, Placer, Solano and Sutter counties. For a precise description of the geographic boundaries of the SMA, see 40 CFR 81.305. Sacramento County is under the jurisdiction of the Sacramento Metropolitan Air Quality Management District (SMAQMD). Yolo County and the eastern portion of Solano County comprise the Yolo-Solano AQMD (YSAQMD). The southern portion of Sutter County is part of the Feather River AQMD (FRAQMD). The western portion of Placer County is part of the Placer County Air Pollution Control District (PCAPCD). Lastly, the western portion of El Dorado County is part of the El Dorado County AQMD (EDCAQMD). Collectively, we refer to these five districts as the “Districts.”

Sacramento Regional Nonattainment Area 8-Hour Ozone Reasonable Further Progress Plan 2002-2008 (“2002-2008 RFP Plan”), February 2006;

Sacramento Regional 8-Hour Ozone Attainment Plan and Reasonable Further Progress Plan, March 26, 2009 (“2009 Ozone Attainment and RFP Plan” or “2009 Plan”);

Elements of CARB's 2007 State Strategy (“2007 State Strategy”), adopted by CARB on September 27, 2007, as applicable in the SMA;

Elements of the Status Report on the State Strategy for California's 2007 State Implementation Plan (SIP) and Proposed Revision to the SIP Reflecting Implementation of the 2007 State Strategy (“Revised 2007 State Strategy”),² March 24, 2009, as applicable in the SMA; and

² On July 21, 2011, CARB further revised the State Strategy (i.e., Progress Report on Implementation of PM2.5 State Implementation Plans (SIP) for the South Coast and San Joaquin Valley Air Basins and Proposed SIP Revisions). Although the 2011 revision was specific to the South Coast and San Joaquin Valley ozone nonattainment areas, it contained Appendix E, an assessment of the impacts of the economic recession on emissions from the goods movement sector. The growth projections developed for emissions inventories in the Sacramento Regional 8-Hour Ozone Attainment Plan and Reasonable Further Progress Plan (2013 Revisions) also rely on the recessionary impacts in Appendix E.

Sacramento Regional 8-Hour Ozone Attainment Plan and Reasonable Further Progress Plan, 2013 SIP Revisions (“2013 Ozone Attainment and RFP Plan” or “2013 Plan Update”), September 26, 2013.

We refer to these submittals collectively as the “Sacramento 8-Hour Ozone Attainment Plan” or “Sacramento Ozone Plan.” The SMA is classified as “severe-15” with an attainment date no later than June 15, 2019.³ See 75 FR 24409. The following paragraphs summarize the regulatory background, CARB's submittals, and the EPA's rationale for proposing approval. For additional details concerning these topics, please see our October 15, 2014 proposed rule.

³ For the 2008 ozone standard, we also designated the SMA as nonattainment and classified the area as “severe-15.” See 77 FR 30088 (May 21, 2012). The SMA attainment date for the 2008 8-hour ozone standard is as expeditious as practicable but no later than December 31, 2027. Today's action does not address requirements concerning the 2008 8-hour ozone standard.

A. Regulatory Background

The specific CAA requirement that is relevant for the purposes of this action is Title I, Part D of the CAA, under which states must implement the 1997 8-hour ozone standard. Title I, Part D of the CAA includes section 172, “Nonattainment plan provisions,” and subpart 2, “Additional Provisions for Ozone Nonattainment Areas” (sections 181-185).

In order to assist states in developing effective plans to address their ozone nonattainment problem, the EPA issued the 8-hour ozone implementation rule. This rule was finalized in two phases. The first phase of the rule addresses classifications for the 1997 8-hour ozone standard, applicable attainment dates for the various classifications, and the timing of emissions reductions needed for attainment. See 69 FR 23951 (April 30, 2004). The second phase addresses SIP submittal dates and the requirements for reasonably available control technology and measures (RACT and RACM), RFP, modeling and attainment demonstrations, contingency measures, and new source review. See 70 FR 71612 (November 29, 2005). The rule is codified at 40 CFR part 51, subpart X.⁴ We discussed each of these CAA and regulatory requirements for 8-hour ozone nonattainment plans in more detail in our October 15, 2014 proposal.

⁴ The EPA has revised or proposed to revise several elements of the 8-hour ozone implementation rule since its initial promulgation in 2004. See, e.g., 74 FR 2936 (January 16, 2009); 75 FR 51960 (August 24, 2010); and 75 FR 80420 (December 22, 2010). None of these revisions affect any provision of the rule that is applicable to the EPA's proposed action on the Sacramento 8-Hour Ozone Attainment Plan.

B. CARB's Submittals

The 2002-2008 RFP Plan was adopted by the Districts' governing boards during the January-February 2006 time frame and then by CARB Executive Order G-125-335 on February 24, 2006. The 2002-2008 RFP Plan includes an RFP demonstration for the 2002-2008 period, an amended Rate of Progress Plan for the 1990-1996 period, and motor-vehicle emissions budgets (MVEB or “budgets”) used for transportation conformity purposes.

The 2009 Ozone Attainment and RFP Plan was adopted by the Districts' governing boards during the January-February 2009 time frame and then by CARB on March 26, 2009. The 2009 Ozone Attainment and RFP Plan includes an attainment demonstration, commitments by the Districts to adopt control measures to achieve emissions reductions from sources under its jurisdiction (primarily stationary sources), and budgets used for transportation conformity purposes. The attainment demonstration includes air quality modeling, an RFP plan, an analysis of RACM/RACT, base year and projected year emissions inventories, and contingency measures. The 2009 Ozone Attainment and RFP Plan also includes a demonstration that the most expeditious date for attaining the 1997 8-hour ozone NAAQS in the SMA is June 15, 2018.

In late 2013, SMAQMD and CARB adopted the 2013 Plan Update, which revised portions of the 2009 Plan. The 2013 Plan Update included a revised emissions inventory that accounted for control measures adopted through 2011, revised attainment and RFP demonstrations, the effects of the economic recession, and updated transportation activity projections provided by the Sacramento Area Council of Governments (SACOG). On June 19, 2014, CARB submitted a technical supplement to the Sacramento Vehicle Miles Traveled (VMT) emissions offset demonstration in the 2013 Plan Update.⁵ CARB's technical supplement includes a revised set of motor vehicle emissions estimates reflecting technical changes to the inputs used to develop the original set of calculations.⁶ While the vehicle emissions estimates in CARB's technical supplement differ from those contained in the demonstration in the 2013 Plan Update, the conclusions in the revised analysis remain the same as those in the 2013 Plan Update.

⁵ See letter from Lynn Terry, Deputy Executive Officer, CARB, to Deborah Jordan, Director, Air Division, EPA Region 9, June 19, 2014, with enclosures. On July 25, 2014, CARB sent the EPA a revised technical supplement that corrected minor typographical errors. See record of July 25, 2014 email and attachment from Jon Taylor, CARB, to Matt Lakin, EPA, included in the docket.

⁶ The principal difference between the two sets of calculations is that CARB's technical supplement includes running exhaust, start exhaust, hot soak, and running loss emissions of VOCs in all of the emissions scenarios. These processes are directly related to VMT and vehicle trips. The revised calculation excludes diurnal and resting loss emissions of VOCs from all of the emissions scenarios because such evaporative emissions are related to vehicle population rather than to VMT or vehicle trips.

To demonstrate attainment, the Sacramento Ozone Plan relies to a large extent on measures in CARB's 2007 State Strategy. The 2007 State Strategy was adopted by CARB on September 27, 2007 and submitted to the EPA on November 16, 2007.⁷ The 2007 State Strategy describes CARB's overall approach to addressing, in conjunction with local plans, attainment of both the 1997 Fine Particulate Matter (PM2.5) and 1997 8-hour ozone NAAQS not only in the SMA but also in California's other nonattainment areas, such as the South Coast Air Basin and the San Joaquin Valley. It also includes CARB's commitments to obtain emissions reductions of NOX and VOC from sources under the State's jurisdiction, primarily on- and off-road motor vehicles and engines, through the implementation of 15 defined State measures.⁸

⁷ See CARB Resolution No. 07-28, September 27, 2007 with attachments and letter, James N. Goldstene, Executive Officer, CARB, to Wayne Nastri, Regional Administrator, EPA Region 9, November 16, 2007 with enclosures.

⁸ The 2007 State Strategy also includes measures (i.e., Smog Check improvements) to be implemented by the California Bureau of Automotive Repair. See 2007 State Strategy, pp. 64-65 and CARB Resolution 7-28, Attachment B, p. 8.

On August 12, 2009, CARB submitted the Revised 2007 State Strategy, dated March 24, 2009 and adopted April 24, 2009.9 10 This submittal updated the 2007 State Strategy to reflect its implementation during 2007 and 2008 and calculated emission reductions in the SMA from implementation of the State Strategy. The 2013 Plan Update incorporates the Revised 2007 State Strategy and updates NOX and VOC emissions reductions estimates from adopted State measures and commitments. In our proposal and in the context of the Sacramento Ozone Plan, we only evaluated the State measures that are included in the Revised 2007 State Strategy and applicable in the SMA.

⁹ See CARB Resolution No. 09-34, April 24, 2009 and letter, James N. Goldstene, Executive Officer, CARB to Wayne Nastri, Regional Administrator, EPA Region 9, August 12, 2009 with enclosures. Only pages 11-27 of the Revised 2007 State Strategy were submitted as a SIP revision. The balance of the report was for informational purposes only. See Attachment A to CARB Resolution No. 09-34.

¹⁰ The EPA has previously approved portions of CARB's 2007 State Strategy and the Revised 2007 State Strategy that are relevant for attainment of the 1997 8-hour ozone standard in the San Joaquin Valley. See 77 FR 12674 (March 1, 2012).

For additional background on the submittals and CAA procedural and administrative requirements for SIP submittals, see the October 15, 2014 proposal.

C. The EPA's Proposed Approval

As noted above, on October 15, 2014, the EPA proposed to approve California's attainment SIP for the SMA for the 1997 8-hour Ozone NAAQS. This SIP is comprised of a series of submittals described above.

In its proposal, the EPA proposed to approve under CAA section 110(k)(3) the following elements of the Sacramento Ozone Plan:

1. The revised 2002 base year emissions inventory as meeting the requirements of CAA section 182(a)(1) and 40 CFR 51.915;

2. The reasonably available control measure demonstration as meeting the requirements of CAA section 172(c)(1) and 40 CFR 51.912(d);

3. The rate of progress and reasonable further progress demonstrations as meeting the requirements of CAA sections 172(c)(2) and 182(c)(2)(B) and 40 CFR 51.910 and 51.905;

4. The attainment demonstration as meeting the requirements of CAA section 182(c)(2)(A) and 40 CFR 51.908;

5. The contingency measure provisions for failure to make RFP and to attain as meeting the requirements of CAA sections 172(c)(9) and 182(c)(9);

6. The demonstration that the SIP provides for transportation control strategies and measures sufficient to offset any growth in emissions from growth in VMT or the number of vehicle trips, and to provide for RFP and attainment, as meeting the requirements of CAA section 182(d)(1)(A);

7. The revised motor vehicle emissions budgets for 2017 and for the attainment year of 2018 because they are derived from approvable RFP and attainment demonstrations and meet the requirements of CAA section 176(c) and 40 CFR part 93, subpart A; ¹¹ and

¹¹ Motor vehicle emission budgets (MVEBs) for 2011, 2014, and 2017 were previously found adequate by the EPA on July 28, 2009 (74 FR 37210). New MVEBs for 2014, 2017, and 2018 in the 2013 Plan Update were determined to be adequate on July 25, 2014. The adequacy finding was published on August 8, 2014 (79 FR 46436) with an effective date of August 25, 2014.

8. The Districts' commitments to adopt and implement certain defined measures, as summarized in table 7-5 on page 7-32 of the 2013 Plan Update, as strengthening the SIP.¹²

¹² The October 15, 2014 proposal incorrectly refers to table 7-2 on pages 7-5 and 7-6 of the 2013 Plan Update as the location of the Districts' commitments to adopt and implement certain defined measures. The correct cite is Table 7-5 on page 7-32. The Districts' measures are further described in Section 7.5 of the 2013 Plan Update.

The EPA's analysis and findings are summarized in our October 15, 2014 proposal and are described in more detail in the Technical Support Document (TSD) for the proposal, which is available online at www.regulations.gov in the docket, EPA-R09-OAR-2014-0178, or from the EPA contact listed at the beginning of this notice.

II. What comments did the EPA receive on the proposed rule?

Our October 15, 2014 proposed rule provided for a 30-day comment period. During this period, we received a comment letter jointly signed by Larry Greene, Executive Director/Air Pollution Control Officer at the SMAQMD, and Mike McKeever, Chief Executive Officer at SACOG. We provide our response to the comment letter below.

Comment: The SMAQMD notes that the 2013 Plan Update contains NOX reductions that exceed by 1.0 tons per day (tpd) the amount of reductions of NOX needed to meet the attainment target for 2018. They refer to this excess as a “buffer” intended for possible use, if necessary, to demonstrate general conformity for future federal projects. In its proposal, the EPA did not credit all reductions in the 2013 Plan Update, and the attainment demonstration adjusted by the EPA results in excess NOX reductions in 2018 of only 0.1 tpd. The 2018 motor vehicle emissions budget (MVEB) in the 2013 Plan Update includes a 2018 safety margin of 3.0 tpd of NOX. In their comment letter, SMAQMD requests that the EPA reallocate 0.9 tpd of NOX from the 2018 MVEB safety margin to the “general conformity NOX buffer.” This would leave 2.1 tpd in the 2018 NOX safety margin and 1.0 tpd of NOX (i.e., 0.9 tpd from the safety margin plus 0.1 tpd excess in the adjusted attainment demonstration) available, if needed, for general conformity.

Response: The SMAQMD is correct that, in proposing approval of the attainment demonstration, the EPA did not credit all of the emissions reductions claimed in the plan but found that the plan nonetheless provides sufficient, creditable, emissions reductions to meet the emissions targets necessary to attain the ozone standard by 2018. The EPA, however, did credit some of the local measures included as “remaining regional/local control measures” in line J of table 8-1 in the 2013 Plan Update for attainment demonstration purposes because, by the time of our proposed rule, certain individual rules had been adopted, submitted, and approved by the EPA (e.g., YSAQMD Rule 2.37). See table 10 of the October 15, 2014 proposed rule.

The emissions reductions that EPA discounted in its evaluation of the attainment demonstration include those associated with (1) local rules that, while adopted, have not yet been submitted or approved by the EPA but for which credit is taken as part of the emission inventory baseline for 2018 (see page 14 of the EPA's TSD for the October 15, 2014 proposed rule); (2) certain mobile source incentive programs for which credit is taken as part of the emission inventory baseline for 2018 (see page 14 of the TSD); (3) local rules included as “remaining regional/local control measures” (see pages 7-27 through 7-31 of the 2013 Plan Update) included in line J in table 8-1 of the 2013 Plan Update that have not been adopted or submitted to the EPA for approval as part of the SIP; (4) regional non-regulatory measures (included in line J in table 8-1 of the 2013 Plan Update); and (5) the “Remaining State/Federal Control Measures” (shown in line K in table 8-1 of the 2013 Plan Update).

By the EPA's accounting, as SMAQMD contends, the “buffer” is only 0.1 tpd for NOX, not 1.0 tpd as claimed in the plan. The calculated “buffer” itself reflects a 2018 MVEB “safety margin” of 3 tpd of NOX, and therefore, there are surplus NOX reductions that could be reallocated from the MVEB “safety margin” to other purposes, such as a set-aside for general conformity. However, to effectuate such a reallocation, the CARB and the Districts should adopt and submit a revised plan to EPA as a revision to the SIP. The EPA contacted the SMAQMD concerning this matter, and the SMAQMD expressed support for completion of the current rulemaking even if the EPA cannot grant the request to reallocate a portion of the NOX MVEB at this time.¹³ Therefore, we are taking final action today consistent with our October 15, 2014 proposed rule and will consider the reallocation of the MVEB safety margin once a revised SIP is submitted.

¹³ See email from Deborah Jordan, Director, Air Division, EPA Region IX, dated December 17, 2014, summarizing a December 3rd telephone conversation between herself and Larry Greene at the SMAQMD.

III. What action is the EPA taking?

For the reasons discussed in our October 15, 2014 proposal and summarized above, the EPA is approving California's attainment SIP for the Sacramento Metro Area for the 1997 8-hour Ozone NAAQS. This SIP is comprised of the Sacramento Regional Nonattainment Area 8-Hour Ozone Reasonable Further Progress Plan 2002-2008 (February 2006), Sacramento Regional 8-Hour Ozone Attainment Plan and Reasonable Further Progress Plan (March 26, 2009), CARB's 2007 State Strategy (adopted by CARB on September 27, 2007) and Revised 2007 State Strategy (March 24, 2009) (specifically, the portions applicable to the SMA), and the Sacramento Regional 8-Hour Ozone Attainment Plan and Reasonable Further Progress Plan (September 26, 2013).

Under section 110(k)(3), the EPA is approving the following elements of the Sacramento Ozone Plan:

1. The revised 2002 base year emissions inventory as meeting the requirements of CAA section 182(a)(1) and 40 CFR 51.915;

2. The reasonably available control measure demonstration as meeting the requirements of CAA section 172(c)(1) and 40 CFR 51.912(d);

3. The rate of progress and reasonable further progress demonstrations as meeting the requirements of CAA sections 172(c)(2) and 182(c)(2)(B) and 40 CFR 51.910 and 51.905;

4. The attainment demonstration as meeting the requirements of CAA section 182(c)(2)(A) and 40 CFR 51.908;

5. The contingency measure provisions for failure to make RFP and to attain as meeting the requirements of CAA sections 172(c)(9) and 182(c)(9);

6. The demonstration that the SIP provides for transportation control strategies and measures sufficient to offset any growth in emissions from growth in VMT or the number of vehicle trips, and to provide for RFP and attainment, as meeting the requirements of CAA section 182(d)(1)(A);

7. The revised motor vehicle emissions budgets for 2017 and for the attainment year of 2018, because they are derived from approvable RFP and attainment demonstrations and meet the requirements of CAA section 176(c) and 40 CFR part 93, subpart A;¹⁴ and

¹⁴ The MVEBs approved in today's action are the following (in tons per day, average summer weekday): 18 tpd and 39 tpd of VOC and NOX for 2017, respectively, and 17 tpd and 37 tpd of VOC and NOX, respectively, for 2018.

8. The Districts' commitments to adopt and implement certain defined measures, as summarized in table 7-5 on page 7-32 of the 2013 Plan Update.

IV. Statutory and Executive Order Reviews

The Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves state plan revisions as meeting federal requirements and does not impose additional requirements beyond those imposed by state law. For these reasons, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide the EPA with the discretionary authority to address disproportionate human health or environmental effects with practical, appropriate, and legally permissible methods under Executive Order 12898 (59 FR 7629, February 16, 1994).

In addition, this rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 30, 2015. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental regulations, Nitrogen dioxide, Ozone, Reporting and recordkeeping requirements, Volatile organic compounds.

Authority: 42 U.S.C. 7401 et seq.

Dated: January 9, 2015.
Jared Blumenfeld,
Regional Administrator, EPA Region 9.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding paragraphs (c)(450), (c)(451) and (c)(452) to read as read as follows:

§ 52.220 Identification of plan.

* * * * *

(c) * * *

(450) The following plan was submitted on February 24, 2006 by the Governor's designee.

(i) [Reserved]

(ii) Additional materials.

(A) Sacramento Metro 1997 Eight-Hour Ozone Planning Area.

(1) Sacramento Regional Nonattainment Area 8-Hour Ozone Rate-of-Progress Plan, Final Draft, December 2005.

(451) The following plan was submitted on April 17, 2009 by the Governor's designee.

(i) [Reserved]

(ii) Additional materials.

(A) Sacramento Metro 1997 Eight-Hour Ozone Planning Area.

(1) Sacramento Regional 8-Hour Ozone Attainment and Reasonable Further Progress Plan (With Errata Sheets Incorporated), March 26, 2009 (Reasonable further progress demonstration and related contingency demonstration for milestone year 2011 as presented in chapter 13 (“Reasonable Further Progress Demonstrations”) only).

(452) The following plan was submitted on December 31, 2013 by the Governor's designee.

(i) [Reserved]

(ii) Additional materials.

(A) Sacramento Metro 1997 Eight-Hour Ozone Planning Area.

(1) Sacramento Regional 8-Hour Ozone Attainment and Reasonable Further Progress Plan (2013 SIP Revisions), September 26, 2013, including appendices.

(2) Supplemental information, titled “Sacramento Federal Ozone Nonattainment Area, July 24, 2014,” for Appendix F-1 (“Vehicle Miles Traveled Offset Demonstration”) of the Sacramento Regional 8-Hour Ozone Attainment and Reasonable Further Progress Plan (2013 SIP Revisions).

[FR Doc. 2015-01609 Filed 1-28-15; 8:45 am]

BILLING CODE 6560-50-P